DEPARTMENT OF LABOR

Employment and Training Administration

[TA-W-82,500; TA-W-82,500A]

Mondelez International Philadelphia, Pennsylvania; Mondelez International Wilkes-Barre, Pennsylvania; Amended Certification Regarding Eligibility To Apply for Worker Adjustment Assistance

In accordance with section 223 of the Trade Act of 1974, as amended (“Act”), 19 U.S.C. 2273, the Department of Labor issued a Certification of Eligibility to Apply for Worker Adjustment Assistance on July 19, 2013, applicable to workers and former workers of Mondelez International, Philadelphia, Pennsylvania (TA-W-82,500). The workers were engaged in activities related to the production of snack food products. The worker group does not include leased or temporary workers.

During the course of an investigation of a subsequent Trade Adjustment Assistance (TAA) petition filed on behalf of workers at an affiliated Mondelez International facility, the Department received additional information regarding the workers group covered by TA-W-82,500 (Philadelphia, Pennsylvania) and new information regarding the worker group covered by TA-W-82,500A (Wilkes-Barre, Pennsylvania).

Based on the new and additional information, the Department determines that the worker group at the subject firm's Wilkes-Barre, Pennsylvania facility is engaged in the production of snack food products at the Philadelphia, Pennsylvania facility.

Based on these findings, the Department is amending this certification (TA-W-82,500) to include the workers at Wilkes-Barre, Pennsylvania (TA-W-82,500A). The amended notice applicable to TA-W-82,500 is hereby issued as follows:

All workers of Mondelez International, Philadelphia, Pennsylvania (TA-W-82,500) and Mondelez International, [Wilkes-Barre, Pennsylvania (TA-W-82,500A), who became totally or partially separated from employment on or after February 23, 2012 through July 19, 2015, and all workers in the group threatened with total or partial separation from employment on July 19, 2013 through July 19, 2015, are eligible to apply for adjustment assistance under Chapter 2 of Title II of the Trade Act of 1974, as amended.

Signed in Washington, DC, this 4th day of May 2015.
Michael W. Jaffe,
Certifying Officer, Office of Trade Adjustment Assistance.

[FR Doc. 2015-15733 Filed 6-25-15; 8:45 am]

BILLING CODE 4510-FN-P